DEPARTMENT OF HEALTH AND HUMAN SERVICES

National Institutes of Health

Clinical Center; Amended Notice of Meeting

Notice is hereby given of a change in the meeting of the NIH Advisory Board for Clinical Research, September 29, 2006, 10 a.m. to September 29, 2006, 2 p.m. National Institutes of Health, Building 10, 10 Center Drive, 4-2551, CRC Medical Board Room, Bethesda, MD 20892 which was published in the Federal Register on September 8, 2006, FR 06-7534.

The open session will occur from 10 a.m.-1:30 p.m. The closed session will begin approximately at 1:30 p.m. and run until 2 p.m. The meeting will be held in the Clinical Center, Bldg. 10, Rm. 4-2551, CRC Medical Board Room. The meeting is partially Closed to the public.

Dated: September 19, 2006.
Anna Snouffer,
Acting Director, Office of Federal Advisory Committee Policy.

[FR Doc. 06-8329 Filed 9-27-06; 8:45 am]

BILLING CODE 4140-01-M